DEPARTMENT OF DEFENSE

Department of the Army

Availability for Non-Exclusive, Exclusive, or Partially Exclusive Licensing of U.S. Patent Concerning a Multiple Pass Faraday Rotation Amplifier

AGENCY: Department of the Army, DoD.

ACTION: Notice.

SUMMARY: In accordance with 37 CFR 404.6 and 404.7, announcement is made of the availability for licensing of the invention set forth in U.S. Patent No. 7,095,555 entitled “Multiple Pass Faraday Rotation Amplifier,” issued on August 22, 2006. The United States Government, as represented by the Secretary of the Army, has rights in this invention.

ADDRESSES: Office of Research and Technology Applications, SDMC-RDTC-TDL (Ms. Susan D. McRae), Bldg. 5520, Von Braun Complex, Redstone Arsenal, AL 35898.

FOR FURTHER INFORMATION CONTACT: Ms. Joan Gilsdorf, Patent Attorney, e-mail: joan.gilsdorf@smdc.army.mil (256) 955-3213 or Ms. Susan D. McRae, Office of Research and Technology Applications, e-mail: susan.mcrae@army.mil; (256) 955-1501.

SUPPLEMENTARY INFORMATION: The invention pertains to the amplification of Faraday or Voigt rotation in thin film materials by passing a light beam through a sample of material many times through use of multiple internal reflections and successive mirrored chambers that repeatedly send the light beam back through the sample.

Brenda S. Bowen,
Army Federal Register Liaison Officer.

[FR Doc. 07-1276 Filed 3-15-07; 8:45 am]

BILLING CODE 3710-08-M